DEPARTMENT OF ENERGY

Federal Energy Regulatory Commission

[Docket No. RP02-525-000]

Maritimes & Northeast Pipeline, L.L.C.; Notice of Proposed Changes in FERC Gas Tariff

September 6, 2002.

Take notice that on August 30, 2002, Maritimes & Northeast Pipeline, L.L.C. (Maritimes) tendered for filing as part of its FERC Gas Tariff, First Revised Volume No. 1, the following tariff sheets to become effective on October 1, 2002:

Second Revised Sheet No. 7

Second Revised Sheet No. 8

Second Revised Sheet No. 12

Second Revised Sheet No. 13

Second Revised Sheet No. 14

Maritimes states that the purpose of this filing is to adjust Maritimes rates to reflect the current ACA Unit Surcharge authorized by the Commission for the fiscal year 2003. The ACA Unit Surcharge authorized by the Commission for fiscal year 2003 is $0.0021 per Dth, which results in a $0.0001 per Dth decrease in Maritime's prior year ACA surcharge.

Maritimes states that copies of this filing were served on all affected customers of Maritimes and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Magalie R. Salas,
Secretary.

[FR Doc. 02-23213 Filed 9-11-02; 8:45 am]

BILLING CODE 6717-01-P